DEPARTMENT OF THE INTERIOR

Bureau of Land Management

[LLCOF02000 L71220000.EA0000 LVTFC09C6050]

Notice of Availability of the Record of Decision for the Over The River ™ Art Project, Colorado

AGENCY: Bureau of Land Management, Interior.

ACTION: Notice of availability.

SUMMARY: In accordance with the National Environmental Policy Act of 1969 (NEPA), as amended, and the Federal Land Policy and Management Act of 1976 (FLPMA), as amended, the Bureau of Land Management (BLM) announces the availability of its Record of Decision (ROD) to issue a land-use permit authorizing the construction, display, and removal of the proposed Over The River ™ Art Project (OTR). The ROD is effective immediately upon publication of this notice.

ADDRESSES: Copies of the ROD are available for public inspection at the BLM Royal Gorge Field Office, 3028 East Main Street, Cañon City, CO 81212; the BLM Colorado State Office, 2850 Youngfield St., Lakewood, CO 80215; Cañon City Public Library, 516 Macon Ave., Cañon City, CO 81212; Salida Regional Library, 405 E. St., Salida, Colorado 81201; Arkansas Headwaters Recreation Area office, 307 West Sackett Ave., Salida, CO 81201; Denver Public Library, 10 W. Fourteenth Ave. Parkway, Denver, Colorado 80204; and the Cotopaxi Store, 20204 U.S. Highway 50, Cotopaxi, Colorado 81223. Interested persons may also review the ROD at the following Web site: http://www.blm.gov/co/st/en/fo/rgfo/planning/otr.html.

FOR FURTHER INFORMATION CONTACT: Mr. Vincent Hooper, OTR Project Manager, at the Royal Gorge Field Office (see ADDRESSES section above); telephone (719) 269-8555. Persons who use a telecommunications device for the deaf (TDD) may call the Federal Information Relay Service (FIRS) at (800) 877-8339 to contact the above individual during normal business hours. The FIRS is available 24 hours a day, 7 days a week, to leave a message or question with the above individual. You will receive a reply during normal business hours.

SUPPLEMENTARY INFORMATION: The OTR Corporation, formed by the artists Christo and Jeanne-Claude, proposes to install a work of art, titled Over The River ™, on Federal, state and private lands adjacent to the Arkansas River between the cities of Salida and Cañon City in Colorado. Following an estimated two-year construction period, the exhibit is proposed for a two-week display and viewing period in early August 2014. The Notice of Realty Action for OTR Corporation land use permit application was published on October 31, 2008 (73 FR 64981). The Notice of Availability for the project's Final Environmental Impact Statement was published on July 29, 2011 (76 FR 45614).

The proposed art exhibit involves the installation of approximately 900 porous, semi-transparent fabric panels, which would be suspended eight to 25 feet above the water for a total distance of approximately 5.9 miles at eight locations along the 42.4 mile stretch of the Arkansas River between Salida and Canon City. The fabric panels would be supported by approximately 1,270 steel cables and a series of steel anchor transition frames. More than 9,000 steel anchors would be drilled into the banks along the Arkansas River to support the panels. At the end of the two-week exhibition period, the fabric panels, system of support cables, anchors and other above-ground materials would be removed over an estimated three-month period. Below ground materials will not be removed. The OTR Corp. will be responsible for restoring the river corridor according to the standards, conditions and mitigation measures imposed by the operator permitting and approval authorities, including the BLM.

More than 300,000 people are expected to visit the Arkansas River canyon during the two-week exhibition period. The art exhibit is a no-fee visitor event. As approved, the project will be located primarily on Federal lands administered by the BLM Royal Gorge Field Office, but would also be located on lands owned or managed by the Colorado State Land Board (SLB), Union Pacific Railroad, and private landowners, and lands owned or cooperatively managed by Colorado Parks and Wildlife in the Arkansas Headwaters Recreation Area. The Colorado Department of Transportation and Colorado State Patrol have jurisdiction for activities along U.S. Highway 50. The majority of the project area is within Fremont County; however, a small portion at the western end of the project is within Chaffee County. Approximately 80 percent of the area in the proposed project would be located in the Arkansas Canyonlands Area of Critical Environmental Concern, a BLM-designated area that is managed to protect and enhance recreation, scenic, historic, cultural and wildlife values.

The Final Environmental Impact Statement identified seven alternatives (including a no action alternative) that vary by panel length, transportation, visitor management, and timing considerations from which the preferred alternative was selected. The preferred alternative was identified in the Final EIS published on July 29, 2011. The ROD sets forth the Front Range District Manager's decision to authorize a land-use permit for construction, display, and removal of 5.9 total miles of fabric panel at eight locations along the Arkansas River between Salida and Canon City, Colorado for a two-week display period in early August 2014. Included in this authorization are a variety of terms and conditions, which set forth mitigation and monitoring requirements for the protection of Federal resource values, lands and habitats.

The ROD was finalized based on multiple opportunities for public participation through scoping and later public comment throughout the EIS process. The BLM sought participation from the public; 16 tribes; and local, state and Federal agencies while developing the ROD. Cooperating agencies on the EIS included the Colorado Department of Natural Resources (Colorado Parks and Wildlife -formally known as the Division of Wildlife and the Colorado State Parks), SLB, Colorado State Patrol, Colorado Department of Transportation, and Fremont and Chaffee counties.

Prior to the BLM issuing a notice to proceed under the land use permit, OTR Corp. will have to obtain additional permits and authorizations from other state and local agencies. This decision is in compliance with the requirements of NEPA, FLPMA and other applicable laws, regulations, and resource management plans.

The ROD constitutes the BLM's final decision regarding the land-use permit application for the proposed OTR Art Project. The ROD contains implementation-level decisions that are appealable pursuant to 43 CFR Part 4. Any party adversely affected by the BLM's decision may appeal the decision to the Interior Board of Land Appeals pursuant to 43 CFR Part 4, Subpart E. The appeal should state the specific decisions in the ROD that are being appealed. Appeals, as described in the regulation, must be filed by December 8, 2011.

Please consult the appropriate regulations for further information.

Authority: 40 CFR 1506.6 and 1506.10.

Helen M. Hankins,
State Director.

[FR Doc. 2011-28511 Filed 11-7-11; 8:45 am]

BILLING CODE 4310-JB-P